DEPARTMENT OF AGRICULTURE

Foreign Agricultural Service

Notice of Request for Extension of a Currently Approved Information Collection

AGENCY: Foreign Agricultural Service, USDA.

ACTION: Notice and request for comments.

SUMMARY: In accordance with Paperwork Reduction Act, this notice announces the Foreign Agricultural Service's intention to request an extension for a currently approved information collection in support of the regulations governing the entry of raw-cane sugar under the tariff rate quota (TRQ) into the United States.

DATES: Comments on this notice must be received by August 21, 2000 to be assured of consideration.

ADDITIONAL INFORMATION OR COMMENTS: Mail or deliver comments to James D. Grueff, Assistant Deputy Administrator, International Trade Policy and Acting Division Director, Import Policies and Programs Division, Foreign Agricultural Service, U.S. Department of Agriculture, Stop 1021, Washington, DC 20250-1021. For further information, contact Mr. Grueff at telephone number (202) 720-4055.

SUPPLEMENTARY INFORMATION: Title: Certificate of Quota Eligibility OMB NUMBER: 0551-0014.

Expiration date of approval: November 30, 2000.

Type of Request: Extension and revision of a currently approved information collection.

Abstract: The Harmonized Tariff Schedule of the United States (HTS) authorizes the Secretary of Agriculture to establish the quantity of raw-cane sugar which may be entered at the in-quota duty rates of the TRQ. The terms under which Certificates of Quota Eligibility will be issued to foreign countries that have been allocated a share of the TRQ are set forth in 15 CFR part 2011, Subpart A, Allocation of Tariff-rate Quota on Imported Sugars, Syrups, and Molasses. The authority for Certificates of Quota Eligibility is additional U.S. note 5(b)(iv) to chapter 17 of the HTS.

The regulation, promulgated by the U.S. Trade Representative, provides for the issuance of Certificates of Quota Eligibility by the Secretary of Agriculture, and in general prohibits sugar subject to the TRQ from being imported into the United States or withdrawn from a warehouse for consumption at the in-quota rates unless such sugar is accompanied by a Certificate of Quota Eligibility. Certificates of Quota Eligibility are issued to foreign countries by the Licensing Authority who is the Assistant Deputy Administrator, International Trade Policy, Foreign Agricultural Service, United States Department of Agriculture, or his or her designee. The issuance of Certificates of Quota Eligibility is in such amounts and at such times as the Secretary determines are appropriate to enable the foreign country to fill its quota allocation for such quota period in a reasonable manner, taking into account traditional shipping patterns, harvesting period, U.S. import requirements, and other relevant factors.

The information required to be collected on the Certificate of Quota Eligibility is used to monitor and control the imports of sugar. Proper completion of the Certificate of Quota Eligibility is mandatory for those foreign governments that are eligible and elect to export raw sugar to the United States under the provisions of the tariff-rate quota.

Estimate of burden: The public reporting burden for these collections vary in direct relation to the number of Certificates of Quota Eligibility issued.

Respondents: Foreign governments.

Estimated number of respondents: 40 per annum.

Estimated number of responses per respondent: 30 per annum.

Estimated total annual burden of respondents: 200 hours.

Copies of this information collection can be obtained from Kimberly Chisley, the Agency Information Collection Coordinator, at (202) 720-2568.

Request for Comments: Send comments regarding (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of automated, electronic, mechanical, or other technological collection techniques or other forms of information technology.

Comments may be sent to James D. Grueff, Assistant Deputy Administrator, International Trade Policy and Acting Division Director, Import Policies Division, Foreign Agricultural Service, U.S. Department of Agriculture, Stop 1021, Washington D.C. 20250-1021. All responses to this notice will be summarized and included in the request for OMB approval. All comments will also become a matter of public record.

Signed at Washington, D.C. on June 14, 2000.
Timothy J. Galvin,
Administrator, Foreign Agricultural Service.

[FR Doc. 00-15624 Filed 6-20-00; 8:45 am]

BILLING CODE 3410-10-P